OFFICE OF THE UNITED STATES TRADE REPRESENTATIVE

Modification of the Harmonized Tariff Schedule of the United States for Certain Cheeses

AGENCY: Office of the United States Trade Representative.

ACTION: Notice.

SUMMARY: This document modifies Additional U.S. Notes 2, 16, 17, 18, 19, 20, 21, 22, 23, and 25 to Chapter 4 of the Harmonized Tariff Schedule of the United States (HTS) to reflect the enlargement of the European Union to 27 countries on January 1, 2007.

DATES: Effective Date: This modification is effective on September 1, 2013.

FOR FURTHER INFORMATION CONTACT: Mark Mowrey, Deputy Assistant U.S. Trade Representative for Eurasia and the Middle East, Office of the United States Trade Representative, 600 17th Street NW., Washington, DC 20508; telephone (202) 395-4620.

SUPPLEMENTARY INFORMATION: On January 1, 2007, Bulgaria and Romania acceded to the European Union (EU), and the EU customs union of 25 member countries (“EU-25”) was enlarged to a customs union of 27 member countries (“EU-27”). At that time, Bulgaria and Romania withdrew their tariff schedules under the World Trade Organization (WTO) and applied the common external tariff of the EU-25 to imports into the EU-27. To recognize the membership of Bulgaria and Romania in the EU-27, the tariff-rate quota (TRQ) allocations for certain cheeses from the EU-25 will be available to the EU-27.

Section 404(d)(3) of the Uruguay Round Agreements Act (URAA) (10 U.S.C. 3601(d)(3)) authorizes the President to allocate in-quota quantities of a TRQ for any agricultural product among supplying countries or customs areas and to modify any allocation as the President determines appropriate. Section 604 of the Trade Act of 1974, as amended (“Trade Act”)(19 U.S.C. 2483) authorizes the President to embody in the HTS the substance of the relevant provisions of that Act, and of other Acts affecting import treatment, and actions thereunder, including the removal, modification, continuance, or imposition of any rate of duty or other import restriction.

In paragraph (3) of Proclamation 6763 of December 23, 1994, the President delegated his authority under section 404(d)(3) of the URAA to the United States Trade Representative (USTR). In paragraph (2) of Proclamation 6914 of August 26, 1996, the President determined that it is appropriate to authorize the USTR to exercise his authority under section 604 of the Trade Act to embody in the HTS the substance of any action taken by USTR under section 404(d)(3) of the URAA.

Modification of the HTS

Effective with respect to articles entered, or withdrawn from warehouse for consumption, on or after September 1, 2013:

1. Additional U.S. note 2 to chapter 4 is modified by: Deleting from such note the expression “EC 25” and inserting in lieu thereof the expression “EU 27”. Inserting into the list of countries in such note the terms “Bulgaria,” and “Romania,”, such that the entire list is maintained in alphabetical order.

2. Additional U.S. note 16 to chapter 4 is modified by: Deleting from the list in such note the expression “EC 25” and inserting in lieu thereof the expression “EU 27”. Deleting the sentence immediately following the list in said note and inserting the following sentence in lieu thereof: “Of the quantitative limitations provided for in this note for the EU 27, Portugal shall have access to a quantity of not less than 353,000 kilograms.”

3. Additional U.S. note 17 to chapter 4 is modified by: Deleting from the list in such note the expression “EC 25” and inserting in lieu thereof the expression “EU 27”.

4. Additional U.S. note 18 to chapter 4 is modified by: Deleting from the list in such note the expression “EC 25” and inserting in lieu thereof the expression “EU 27”.

5. Additional U.S. note 19 to chapter 4 is modified by: Deleting from the list in such note the expression “EC 25” and inserting in lieu thereof the expression “EU 27”.

6. Additional U.S. note 20 to chapter 4 is modified by: Deleting from the list in such note the expression “EC 25” and inserting in lieu thereof the expression “EU 27”.

7. Additional U.S. note 21 to chapter 4 is modified by: Deleting from the list in such note the expression “EC 25” and inserting in lieu thereof the expression “EU 27”.

8. Additional U.S. note 22 to chapter 4 is modified by: Deleting from the list in such note the expression “EC 25” and inserting in lieu thereof the expression “EU 27”.

9. Additional U.S. note 23 to chapter 4 is modified by: Deleting from the list in such note the expression “EC 25” and inserting in lieu thereof the expression “EU 27”.

10. Additional U.S. note 25 to chapter 4 is modified by: Deleting from the list in such note the expression “EC 25” and inserting in lieu thereof the expression “EU 27”.

Michael B.G. Froman,
United States Trade Representative.

[FR Doc. 2013-18154 Filed 7-26-13; 8:45 am]

BILLING CODE 3290-F3-P